ELECTION ASSISTANCE COMMISSION

Sunshine Act Meetings

AGENCY: U.S. Election Assistance Commission.

ACTION: Sunshine Act notice; notice of public meeting agenda.

SUMMARY: Public Meeting: U.S. Election Assistance Commission Technical Guidelines Development Committee Annual Meeting.

DATES: Thursday, January 26, 2023, 1:00-4:30 p.m. ET.

ADDRESSES: The virtual meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct the virtual annual meeting of the EAC Technical Guidelines Development Committee (TGDC) to discuss regular business of the board.

Agenda: The EAC and TGDC members will hold a virtual meeting to discuss program updates for EAC Testing and Certification and the National Institute of Standards and Technology (NIST) Voting Program. The meeting will also include the status of the Voluntary Electronic Pollbook Pilot Program, the annual review of proposed changes to the Voluntary Voting System Guidelines (VVSG), as well as public feedback from the October 2022 Path to End-to-End (E2E) Protocols for Voting Systems workshop and next steps.

The full agenda will be posted in advance on the EAC website: https://www.eac.gov.

BACKGROUND: Section 221 of the Help America Vote Act (HAVA) of 2002 (52 U.S.C. 20971(b)) requires that the EAC to adopt voluntary voting system guidelines, and to provide for the testing, certification, decertification, and recertification of voting system hardware and software.

The TGDC was established in accordance with the requirements of Section 221 of the Help America Vote Act of 2002 (Pub. L. 107-252, codified at 52 U.S.C. 20961), to act in the public interest to assist the Executive Director of the EAC in the development of voluntary voting system guidelines.

STATUS: This meeting will be open to the public.

Camden Kelliher,
Associate Counsel, U.S. Election Assistance Commission.

[FR Doc. 2023-00285 Filed 1-5-23; 4:15 pm]

BILLING CODE P